FEDERAL COMMUNICATIONS COMMISSION

[CC Docket No. 96-45; DA 02-746]

Wireline Competition Bureau Seeks Comment on RCC Holdings, Inc. Petition for Designation as an Eligible Telecommunications Carrier Throughout Its Licensed Service Area in the State of Alabama

AGENCY: Federal Communications Commission.

ACTION: Notice; solicitation of comments.

SUMMARY: In a public notice in this proceeding released on April 2, 2002, the Wireline Competition Bureau sought comment on RCC Holdings' petition seeking designation of eligibility to receive Federal universal service support for a service offered throughout its licensed service area in the state of Alabama.

DATES: Comments are due on or before May 23, 2002. Reply comments are due on or before June 7, 2002.

ADDRESSES: See Supplementary Information section for where and how to file comments.

FOR FURTHER INFORMATION CONTACT: Mark G. Seifert, Deputy Chief, Telecommunications Access Policy Division, Wireline Competition Bureau, (202) 418-7400 TTY: (202) 418-0484.

SUPPLEMENTARY INFORMATION: On March 19, 2002, RCC Holdings, Inc. (RCC Holdings) filed with the Commission a petition pursuant to section 214(e)(6) seeking designation as an eligible telecommunications carrier (ETC) to receive Federal universal service support for service offered throughout its licensed service area in the state of Alabama. Specifically, RCC Holdings contends that the Alabama Public Service Commission has provided an affirmative statement that it does not regulate commercial mobile radio service (CMRS) carriers, RCC Holdings meets all the statutory and regulatory prerequisites for ETC designation, and designating RCC Holdings as an ETC will serve the public interest.

Pursuant to § 54.207(c) of the Commission's rules, RCC Holdings also requests that the Commission redefine the service areas of the following rural incumbent local exchange carriers: (1) Butler Telephone Company Inc., (2) Alltel of Alabama, (3) Frontier Communications of the South, Inc., (4) Frontier Communications of Alabama, Inc., (5) Interstate Telephone Company, (6) Millry Telephone Company, and (7) Mon-cre Telephone Cooperative Inc. (collectively “Rural ILECs”). RCC Holdings states that it is not licensed to serve the service areas of the Rural ILECs in their entirety. RCC Holdings seeks redefinition of the service areas of the Rural ILECs in order to be designated an ETC only where RCC Holdings is licensed to provide CMRS in the state of Alabama. The Wireline Competition Bureau seeks comment on the RCC Holdings Petition, including the requested service area redefinition.

The petitioner must provide copies of its petition to the Alabama Public Service Commission at the time of filing with the Commission. The Commission will also send a copy of this Public Notice to the Alabama Public Service Commission by overnight express mail to ensure that the Alabama Public Service Commission is notified of the notice and comment period.

Pursuant to §§ 1.415 and 1.419 of the Commission's rules, interested parties may file comments as follows: comments are due May 23, 2002, and reply comments are due June 7, 2002. Comments may be filed using the Commission's Electronic Comment Filing System (ECFS) or by filing paper copies. See Electronic Filing of Documents in Rulemaking Proceedings, 63 FR 24121, May 1, 1998. Comments filed through the ECFS can be sent as an electronic file via the Internet to http://www.fcc.gov/e-file/ecfs.html>. Generally, only one copy of an electronic submission must be filed. If multiple docket or rulemaking numbers appear in the caption of this proceeding, however, commenters must transmit one electronic copy of the comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form <your e-mail address> .” A sample form and directions will be sent in reply. Parties who choose to file by paper must file an original and four copies of each filing. If more than one docket or rulemaking number appear in the caption of this proceeding, commenters must submit two additional copies for each additional docket or rulemaking number. Filings can be sent by hand or messenger delivery, by commercial overnight courier, or by first-class or overnight U.S. Postal Service mail (although we continue to experience delays in receiving U.S. Postal Service mail). The Commission's contractor, Vistronix, Inc., will receive hand-delivered or messenger-delivered paper filings for the Commission's Secretary at 236 Massachusetts Avenue, NE, Suite 110, Washington, DC 20002. The filing hours at this location are 8:00 a.m. to 7:00 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW, Washington, DC 20554. All filings must be addressed to the Commission's Secretary, Office of the Secretary, Federal Communications Commission.

Parties also must send three paper copies of their filing to Sheryl Todd, Telecommunications Access Policy Division, Wireline Competition Bureau, Federal Communications Commission, 445 Twelfth Street SW, Room 5-B540, Washington, DC 20554. In addition, commenters must send diskette copies to the Commission's copy contractor, Qualex International, Portals II, 445 Twelve Street, SW, Room CY-B402, Washington, DC 20054.

Pursuant to § 1.1206 of the Commission's rules, this proceeding will be conducted as a permit-but-disclose proceeding in which ex parte communications are permitted subject to disclosure.

Federal Communications Commission.
Katherine L. Schroder,
Division Chief, Accounting Policy Division.

[FR Doc. 02-9869 Filed 4-22-02; 8:45 am]

BILLING CODE 6712-01-P